SMALL BUSINESS ADMINISTRATION

[Declaration of Disaster #3302]

State of Florida; Amendment #1

In accordance with a notice from the Federal Emergency Management Agency, dated October 11, 2000, the above-numbered Declaration is hereby amended to establish the incident period for this disaster as beginning on October 3, 2000 and continuing through October 11, 2000.

All other information remains the same, i.e., the deadline for filing applications for physical damage is December 3, 2000 and for economic injury the deadline is July 5, 2001.

(Catalog of Federal Domestic Assistance Program Nos. 59002 and 59008)

Dated: October 17, 2000.
Herbert L. Mitchell,
Acting Associate Administrator for Disaster Assistance.

[FR Doc. 00-27637 Filed 10-26-00; 8:45 am]

BILLING CODE 8025-01-P